DEPARTMENT OF HOMELAND SECURITY

Federal Emergency Management Agency

44 CFR Part 67

[Docket No. FEMA-B-7723]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD). + Elevation in feet (NAVD). # Depth in feet above ground.: Effective | * Elevation in feet (NGVD). + Elevation in feet (NAVD). # Depth in feet above ground.: Modified | Communities affected
Kanawha County, West Virginia, and Incorporated Areas
Alum Creek | Begins at approximately 298 feet downstream of CSX Railroad | None | +519 | Kanawha County (Unincorporated Areas).
| Ends approximately at 3649 feet upstream of Rebel Mountain Road | None | +709
Brier Creek | Begins at approximately 1180 feet downstream of Sproul Road | None | +608 | Kanawha County (Unincorporated Areas).
| Ends approximately at 2390 feet upstream of Brown Land Road | None | +702
Dutch Hollow | Begins at approximately 3125 feet downstream of I-64 Bridge | None | +590 | City of Dunbar, Kanawha County (Unincorporated Areas).
| Ends approximately at 4850 feet upstream of I-64 Bridge | None | +666
Finney Branch | Begins at approximately 1050 feet downstream of Charles Avenue | None | +590 | City of Dunbar, Kanawha County (Unincorporated Areas).
| Ends approximately at 360 feet upstream of Gravel Drive | None | +601
Georges Creek | Begins at approximately 2575 feet downstream of Malden Road | None | +597 | Kanawha County (Unincorporated Areas).
| Ends approximately at 3490 feet upstream of Georges Creek Drive | None | +721
Indian Creek | Begins at approximately 3775 feet downstream of State Route 114 | None | +611 | Kanawha County (Unincorporated Areas).
| Ends approximately at 1000 feet upstream of Boner Drive | None | +693
Magazine Branch | Starts at approximately 920 feet downstream of Pennsylvania Avenue | None | +594 | City of Charleston, Kanawha County (Unincorporated Areas).
| Ends approximately at 100 feet upstream of Pacific Street | None | +688
Middle Fork | Begins at approximately 480 feet downstream of Middle Fork Road | None | +606 | Kanawha County (Unincorporated Areas).
| Ends approximately at 135 feet upstream of Middle Fork Road | None | +630
Mill Creek | Begins at approximately 90 feet downstream of Rail Road Bridge | None | +605 | Kanawha County (Unincorporated Areas).
| Ends approximately at 4550 feet upstream of Mill Creek Road | None | +775
Two and Three Quarter Mile Creek | Begins at approximately 220 feet downstream of U.S. Route 60 | None | +589 | Kanawha County (Unincorporated Areas).
| Ends approximately at 1880 feet upstream of Cane Fork Road | None | +618
* National Geodetic Vertical Datum.
+ North American Vertical Datum.
# Depth in feet above ground.
ADDRESSES
City of Charleston
Maps are available for inspection at 501 East Virginia Street, Charleston, WV 25301. Send comments to The Honorable Danny Jones, Mayor, City of Charleston, 501 East Virginia Street, Charleston, WV 25301.
City of Dunbar
Maps are available for inspection at 210 12th Street, Dunbar, WV 25064. Send comments to The Honorable C. B. Rigney, Mayor, City of Dunbar, P.O. Box 483, Dunbar, WV 25064.
Kanawha County (Unincorporated Areas)
Maps are available for inspection at 501 East Virginia Street, Charleston, WV 25301. Send comments to Mr. W. Kent Carper, Commissioner, Unincorporated Areas of Kanawha County, 501 East Virginia Street, Charleston, WV 25301.

(Catalog of Federal Domestic Assistance No. 97.022, “Flood Insurance.”)

Dated: June 26, 2007.
David I. Maurstad,
Federal Insurance Administrator of the National Flood Insurance Program, Department of Homeland Security, Federal Emergency Management Agency.

[FR Doc. E7-13182 Filed 7-6-07; 8:45 am]

BILLING CODE 9110-12-P